DEPARTMENT OF THE INTERIOR

Bureau of Indian Affairs

[245A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold a two-day in-person and online meeting. The purpose of the meeting is to meet the mandates of the Individuals with Disabilities Education Act of 2004 (IDEA) for Indian children with disabilities.

DATES: The BIE Advisory Board meeting will be held Thursday, April 25, 2024, from 8:00 a.m. to 4:30 p.m. MST and Friday, April 26, 2024, from 8:00 a.m. to 4:30 p.m. MST.

ADDRESSES: The onsite meeting location will be at the Sheraton Albuquerque Uptown Hotel located at 2600 Louisiana Blvd. NE, Albuquerque, NM 87110. To attend virtually, participants may use this link to register: https://www.zoomgov.com/meeting/register/vJIsfuyrqD4rGEQsjzXDBN2G1omKJwy09po. Attendees register once and can attend one or both meeting events. After registering, you will receive a confirmation email containing information about joining the meeting.

Comments: Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 12th Floor, Suite 250, Phoenix, AZ 85004, Jennifer.Davis@bie.edu, or mobile phone (202) 860-7845.

SUPPLEMENTARY INFORMATION: In accordance with the Federal Advisory Committee Act (5 U.S.C. Ch. 10), the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for the April 25, 2024, and April 26, 2024, meetings. The reports concern special education topics.

• The BIE's Division of Performance and Accountability will provide updates about the BIE FFY 2022 State Performance Plan/Annual Performance Report (SPP/APR); the BIE Special Education Policy & Procedures Handbook; the SY 2023-2024 Fiscal and Programmatic monitoring activities; the SY 2023-2024 Transition activities; and the Indian Health Services Memorandum of Understanding.

• Updates about the BIE's Native American Student Information System (NASIS).

• Provide an overview about Indian School Equalization Program (ISEP) Training (part 39, Authority: 25 U.S.C. 13, 2008; Pub. L. 107-110, 115 Stat. 1425).

• Provide an overview about the Federal Fiscal Grants Management/IDEA part B Awards, focusing on ISEP and IDEA programs and activities, and what are allowable costs and how to determine allowable costs?

• Provide an overview about section 504 of the Rehabilitation Act of 1973

• Provide information about the Education for Parents of Indian Children with Special Needs, (EPICS) Program.

• The Advisory Board will also have work sessions to address the next meeting logistics, discuss next steps, provide recommendations for future projects or meetings, wrap-up important decisions, discuss outstanding tasks, and share working folder with board members for future meetings.

• Four Public Comment Sessions will be provided during both meeting days.

○ On Thursday, April 25, 2024, two sessions (15 minutes each) will be provided, 10:45 a.m. to 11:00 a.m. MST and 2:30 p.m. to 2:45 p.m. MST. Public comments can be provided verbally via webinar or in writing using the chat box.

○ On Friday, April 26, 2024, two sessions (15 minutes each) will be provided, 9:45 a.m. to 10:00 a.m. MST and 11:15 a.m. to 11:30 a.m. MST. Public comments can be provided verbally via webinar or in writing using the chat box.

○ Public comments can also be emailed to the DFO at Jennifer.Davis@bie.edu; or faxed to (602) 265-0293 Attention: Jennifer Davis, DFO; or mailed or hand delivered to the Bureau of Indian Education, Attention: Jennifer Davis, DFO, 2600 N Central Ave. 12th Floor, Suite 250, Phoenix, Arizona 85004.

Before including your address, phone number, email address, or other personal identifying information in your comments, please be aware that your entire comment, including your personal identifying information, may be made publicly available at any time. While you can ask us in your comment to withhold your personal identifying information from public review, we cannot guarantee that we will be able to do so.

Accessibility Request

Please make requests in advance for sign language interpreter services, assistive listening devices, or other reasonable accommodations. Please contact the person listed in the section titled For Further Information Contact at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

Authority: 5 U.S.C. Ch. 10.

Bryan Newland,
Assistant Secretary—Indian Affairs.

[FR Doc. 2024-06466 Filed 3-26-24; 8:45 am]

BILLING CODE 4337-15-P